DEPARTMENT OF VETERANS AFFAIRS

Veterans' Advisory Committee on Education, Notice of Meeting

The Department of Veterans Affairs (VA) gives notice under the Federal Advisory Committee Act, 5 U.S.C. App. 2., that the Veterans' Advisory Committee on Education (the Committee) will meet virtually using Microsoft Teams May 24, 2022-May 26, 2022, from 10:00 a.m. to 5:00 p.m., EST. The meeting sessions are open to the public.

The purpose of the Committee is to advise the Secretary of Veterans Affairs on the administration of education and training programs for Veterans, Servicepersons, Reservists, and Dependents of Veterans including programs under Chapters 30, 32, 33, 35, and 36 of title 38, and Chapter 1606 of title 10, United States Code.

The purpose of the meeting is for the Committee to hear briefings on topics of interest to its three subcommittees (Modernization, OJT/Apprenticeship and Distance Learning) and to obtain updates based on its report and recommendations to VA submitted in December 2021.

Interested persons may attend. The meeting will be conducted using Microsoft Teams. Please email EDUSTAENG.VBAVACO@va.gov for an invitation link prior to May 24, 2022 or dial-in by phone (for audio only) 1-872-701-0185 United States, Chicago (Toll), Conference ID: 464 437 245#.

Although no time will be allotted for receiving oral presentations from the public, individuals wishing to share information with the Committee may submit written statements for the Committee's review to Mr. Joseph Maltby, Designated Federal Official, Department of Veterans Affairs, by email at EDUSTAENG.VBAVACO@va.gov. Comments will be accepted until close of business on Monday, May 23, 2022. In the communication, the writers must identify themselves and state the organization or association they represent for inclusion in the official record. Any member of the public wishing to participate or seeking additional information should contact Joseph Maltby at EDUSTAENG.VBAVACO@va.gov not later than May 23, 2022.

Dated: April 11, 2022.
Jelessa M. Burney,
Federal Advisory Committee Management Officer.

[FR Doc. 2022-08023 Filed 4-13-22; 8:45 am]

BILLING CODE P